DEPARTMENT OF TRANSPORTATION

Surface Transportation Board

[STB Finance Docket No. 33983]

Landisville Terminal & Transfer Company—Lease and Operation Exemption—Landisville Railroad Inc.

Landisville Terminal & Transfer Company (LAND), a noncarrier, newly created to become a Class III railroad, has filed a notice of exemption under 49 CFR 1150.31 to lease and operate less than two miles of rail line currently owned by Landisville Railroad Inc. (LRC) in Lancaster County, PA. The rail line consists of LRC's entire rail line between its connection to Norfolk Southern Railway Company on Amtrak's Harrisburg Line and the end of track south of Nolt Road and north of Stony Battery Road. LAND certifies that its projected annual revenues will not exceed those that would qualify it as a Class III rail carrier and that its annual revenues are not projected to exceed $5 million.

LAND indicates that it is leasing all of LRC's assets and will continue to provide the common carrier railroad service currently provided by LRC over its property.

The transaction is expected to be consummated on or about January 1, 2001.

If the notice contains false or misleading information, the exemption is void ab initio. Petitions to revoke the exemption under 49 U.S.C. 10502(d) may be filed at any time. The filing of a petition to revoke will not automatically stay the transaction.

An original and 10 copies of all pleadings, referring to STB Finance Docket No. 33983, must be filed with the Surface Transportation Board, Office of the Secretary, Case Control Unit, 1925 K Street, NW., Washington, DC 20423-0001. In addition, one copy of each pleading must be served on John D. Heffner, REA, CROSS & AUCHINCLOSS, 1707 L Street, NW., Suite 570, Washington, DC 20036.

Board decisions and notices are available on our website at “www.stb.dot.gov.”

Decided: December 28, 2000.
By the Board, David M. Konschnik, Director, Office of Proceedings.
Vernon A. Williams,
Secretary.

[FR Doc. 01-211 Filed 1-4-01; 8:45 am]

BILLING CODE 4915-00-P